DEPARTMENT OF COMMERCE

International Trade Administration

[A-570-890]

Wooden Bedroom Furniture From the People's Republic of China: Preliminary Results of Antidumping Duty Administrative Review; Rescission, in Part; and Preliminary Determination of No Shipments; 2021

AGENCY: Enforcement and Compliance, International Trade Administration, Department of Commerce.

SUMMARY: The U.S. Department of Commerce (Commerce) preliminarily determines that of the 33 companies/company groupings under review, nine of the companies/company groupings have not established their entitlement to a separate rate and are part of the People's Republic of China (China)-wide entity; seven companies/company groupings had no reviewable sales of wooden bedroom furniture (WBF) during the period of review (POR) January 1, 2021, through December 31, 2021; and all requests to review the remaining 17 companies/company groupings were timely withdrawn (thus, Commerce is rescinding this review with respect to these entities). We invite interested parties to comment on these preliminary results of review.

DATES: Applicable October 11, 2022.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On January 11, 2022, Commerce published in the Federal Register a notice of opportunity to request an administrative review of the antidumping duty (AD) order on WBF from China.¹ After receiving review requests,² Commerce initiated this review.³ In March and April 2022, seven companies/company groupings submitted no shipment certifications.⁴ Also in April 2022, various companies filed separate rate applications or certifications, along with a response to Commerce's quantity and value questionnaire and certain additional information requested in a document package on Commerce's website. In June 2022, interested parties timely withdrew all review requests for 17 companies/company groupings under review.⁵

¹ See Antidumping or Countervailing Duty Order, Finding, or Suspended Investigation; Opportunity to Request Administrative Review and Join Annual Inquiry Service List, 87 FR 1396 (January 11, 2022).

² See American Furniture Manufacturers Committee for Legal Trade and Vaughan-Bassett Furniture Company, Inc.'s (the petitioners) Letter, “Wooden Bedroom Furniture from the People's Republic of China: Request For Initiation Of Administrative Review,” dated January 31, 2022; see also Guangzhou Maria Yee Furnishings Ltd., Pyla HK Limited, and Maria Yee, Inc's (collectively, Maria Yee) Letter, “Wooden Bedroom Furniture from the People's Republic of China; Request for Administrative Review and Request for Voluntary Respondent Treatment,” dated January 26, 2022.

³ See Initiation of Antidumping and Countervailing Duty Administrative Reviews, 87 FR 13252 (March 9, 2022) (Initiation Notice).

⁴ See Eurosa's Letter, “Eurosa (Kunshan) Co., Ltd. And Eurosa Furniture Co., (PTE) Ltd.'s Statement of No Shipments during the POR 2021, Wooden Bedroom Furniture from the People's Republic of China,” dated March 22, 2022; see also Zhangzhou Guohui's Letter, “Wooden Bedroom Furniture from the People's Republic of China: No Shipment Certification and Response to Quantity and Value Questionnaire,” dated April 1, 2022; Shenyang Shining's Letter, “Wooden Bedroom Furniture from the People's Republic of China: No Shipment Letter and Response to Quantity and Value Questionnaire Response,” dated April 6, 2022; Nanhai Jiantai and Fortune Glory's Letter, “Seventeenth Administrative Review of the Antidumping Duty Order on Wooden Bedroom Furniture from the People's Republic of China—No Shipment Certification of Nanhai Jiantai Woodwork Co., Ltd. and Fortune Glory Industrial Ltd. (H.K. Ltd.),” dated April 7, 2022; Yeh Brothers's Letter, “No Shipment Letter and Quantity and Value Questionnaire Response for Yeh Brothers World Trade, Inc. in the Seventeenth Administrative Review of Wooden Bedroom Furniture from People's Republic of China, Case No. A-570-890,” dated April 8, 2022; Kinwai International's Letter, “No Shipment Letter for Jiangmen Kinwai International Furniture Co., Ltd., 2021 Administrative Review of Wooden Bedroom Furniture from People's Republic of China,” dated April 8, 2022; and Kinwai Furniture's Letter, “No Shipment Letter for Jiangmen Kinwai Furniture Decoration Co., Ltd., 2021 Administrative Review of Wooden Bedroom Furniture from People's Republic of China,” dated April 8, 2022. Kinwai International and Kinwai Furniture also filed no shipment certifications on March 28, 2022. See Kinwai International's Letter, ” No Shipment Letter for Jiangmen Kinwai International Furniture Co., Ltd., “2021 Administrative Review of Wooden Bedroom Furniture from People's Republic of China,” dated March 28, 2022; and Kinwai Furniture's Letter, “No Shipment Letter for Jiangmen Kinwai Furniture Decoration Co., Ltd., 2021 Administrative Review of Wooden Bedroom Furniture from People's Republic of China” dated March 28, 2022.

⁵ See Petitioner's Letter, “Wooden Bedroom Furniture from the People's Republic of China: Partial Withdrawal Of Request For Administrative Review,” dated June 3, 2022; see also Maria Yee's Letter, “Wooden Bedroom Furniture from the People's Republic of China: Maria Yee's Withdrawal of Request for Review,” dated June 3, 2022.

Scope of the Order

The product covered by the Order is WBF, subject to certain exceptions.⁶ Imports of subject merchandise are classified under the Harmonized Tariff Schedule of the United States (HTSUS) subheadings: 9403.50.9042, 9403.50.9045, 9403.50.9080, 9403.90.7005, 9403.90.7080, 9403.50.9041, 9403.60.8081, 9403.20.0018, 9403.90.8041, 7009.92.1000 or 7009.92.5000. Although the HTSUS subheadings are provided for convenience and customs purposes, the written description of the scope of the Order is dispositive.⁷

⁶ See Notice of Amended Final Determination of Sales at Less Than Fair Value and Antidumping Duty Order: Wooden Bedroom Furniture from the People's Republic of China, 70 FR 329 (January 4, 2005) (Order).

⁷ For a complete description of the scope of the Order, see Wooden Bedroom Furniture from the People's Republic of China: Continuation of Antidumping Duty Order, 87 FR 56397 (September 14, 2022).

Methodology

Commerce is conducting this review in accordance with section 751(a)(1)(B) of the Tariff Act of 1930, as amended (the Act), and 19 CFR 351.213.

Preliminary Determination of No Shipments

In March and April 2022, the following seven companies/company groupings timely filed certifications that they did not export or sell subject merchandise during the POR: (1) Eurosa (Kunshan) Co., Ltd. and Eurosa Furniture Co., (PTE) Ltd. (Eurosa); (2) Jiangmen Kinwai Furniture Decoration Co., Ltd. (Kinwai Furniture); (3) Jiangmen Kinwai International Furniture Co., Ltd. (Kinwai International); (4) Nanhai Jiantai Woodwork Co. Ltd. (Nanhai Jiantai) and Fortune Glory Industrial, Ltd. (HK Ltd.) (Fortune Glory); (5) Shenyang Shining Dongxing Furniture Co., Ltd. (Shenyang Shining); (6) Yeh Brothers World Trade Inc. (Yeh Brothers); and (7) Zhangzhou Guohui Industrial & Trade Co., Ltd. (Zhangzhou Guohui) ⁸ Based on our analysis of information that we obtained from U.S. Customs and Border Protection (CBP), and the companies' certifications, we have preliminarily determined that the seven companies/company groupings listed above did not export or sell subject merchandise during the POR.⁹

⁸ See “Background” section, supra.

⁹ See Memorandum, “Release of U.S. Customs and Border Protection Information Relating to No Shipment Claims,” dated September 23, 2022.

Consistent with Commerce's practice in non-market economy (NME) cases, we are not rescinding this administrative review with respect to these seven companies/company groupings, but intend to complete the review with respect to these entities and issue appropriate instructions to CBP based on the final results of the review.¹⁰

¹⁰ See Non-Market Economy Antidumping Proceedings: Assessment of Antidumping Duties, 76 FR 65694, 65694-95 (October 24, 2011); and the “Assessment Rates” section, infra.

Separate Rates

In the Initiation Notice, we informed parties that all firms for which a NME review was initiated that wished to qualify for separate rate status must complete, as appropriate, either a separate rate application or a separate rate certification.¹¹ The following nine companies/company groupings for which a review was requested, failed to provide a separate rate application or certification: (1) Dongguan Sunrise Furniture Co., Taicang Sunrise Wood Industry, Co., Ltd., Shanghai Sunrise Furniture Co., Ltd., Fairmont Designs; (2) Dongguan Sunrise Furniture Co., Ltd., Taicang Sunrise Wood Industry Co., Ltd., Taicang Fairmont Designs Furniture Co., Ltd., Meizhou Sunrise Furniture Co., Ltd.; (3) Hang Hai Woodcraft's Art Factory; (4) Shenzhen Forest Furniture Co., Ltd.; (5) Sunforce Furniture (Hui-Yang) Co., Ltd., Sun Fung Wooden Factory, Sun Fung Co., Shin Feng Furniture Co., Ltd., Stupendous International Co., Ltd.; (6) Superwood Co. Ltd., Lianjiang Zongyu Art Products Co., Ltd.; (7) Xiamen Yongquan Sci-Tech Development Co., Ltd.; (8) Yihua Timber Industry Co., Ltd. (a.k.a. Guangdong Yihua Timber Industry Co., Ltd.); and (9) Yihua Lifestyle Technology Co., Ltd. Therefore, Commerce preliminarily determines that these nine companies/company groupings failed to demonstrate that they qualify for separate rate status and are part of the China-wide entity.

¹¹ See Initiation Notice, 87 FR at 13253-54.

Commerce's policy regarding conditional review of the China-wide entity applies to this administrative review.¹² Under this policy, the China-wide entity will not be under review unless a party specifically requests, or Commerce self-initiates, a review of the entity. Because no party requested a review of the China-wide entity, the entity is not under review and the weighted-average dumping margin assigned to the China-wide entity is not subject to change as a result of this administrative review.

¹² See Antidumping Proceedings: Announcement of Change in Department Practice for Respondent Selection in Antidumping Duty Proceedings and Conditional Review of the Nonmarket Economy Entity in NME Antidumping Duty Proceedings, 78 FR 65963 (November 4, 2013).

Partial Rescission of Administrative Review

Pursuant to 19 CFR 351.213(d)(1), Commerce will rescind an administrative review, in whole or in part, if a party that requested a review, withdraws its request within 90 days of the date of publication of the notice of initiation of the requested review in the Federal Register. Interested parties timely withdrew all review requests for 17 companies/company groupings. Therefore, in accordance with 19 CFR 351.213(d)(1), Commerce is rescinding this review of the AD order on WBF from China with respect to all of the companies/company groupings listed in the appendix to this notice.

Public Comment

Interested parties may submit case briefs to Commerce no later than 30 days after the date of publication of these preliminary results of review in the Federal Register.¹³ Rebuttal briefs may be filed with Commerce no later than seven days after case briefs are due and may respond only to arguments raised in the case briefs.¹⁴ A table of contents, list of authorities used, and an executive summary of issues should accompany any briefs submitted to Commerce. The summary should be limited to five pages total, including footnotes.¹⁵

¹³ See 19 CFR 351.309(c)(1)(ii).

¹⁴ See 19 CFR 351.309(d).

¹⁵ See 19 CFR 351.309(c)(2) and (d)(2).

Pursuant to 19 CFR 351.310(c), interested parties who wish to request a hearing, limited to issues raised in the case and rebuttal briefs, must submit a written request to the Assistant Secretary for Enforcement and Compliance, U.S. Department of Commerce, within 30 days after the date of publication of this notice in the Federal Register. Requests for a hearing should contain: (1) the requesting party's name, address, and telephone number; (2) the number of individuals associated with the requesting party that will attend the hearing and whether any of those individuals is a foreign national; and (3) a list of the issues the party intends to discuss at the hearing. Oral arguments at the hearing will be limited to issues raised in the case and rebuttal briefs. If a request for a hearing is made, Commerce will announce the date and time of the hearing. Parties should confirm by telephone the date and time of the hearing two days before the scheduled hearing date.

All submissions to Commerce, with limited exceptions, must be filed electronically using Enforcement and Compliance's Antidumping and Countervailing Duty Centralized Electronic Service System (ACCESS). An electronically filed document must be received successfully in its entirety by Commerce's electronic records system, ACCESS, by 5:00 p.m. Eastern Time on the due date.¹⁶ Note that Commerce has temporarily modified certain of its requirements for serving documents containing business proprietary information until further notice.¹⁷

¹⁶ See 19 CFR 351.303 (for general filing requirements); Antidumping and Countervailing Duty Proceedings: Electronic Filing Procedures; Administrative Protective Order Procedures, 76 FR 39263 (July 6, 2011).

¹⁷ See Temporary Rule Modifying AD/CVD Service Requirements Due to COVID-19; Extension of Effective Period, 85 FR 41363 (July 10, 2020).

Final Results of Review

Unless otherwise extended, Commerce intends to issue the final results of this review no later than 120 days after the date these preliminary results of review are published in the Federal Register, pursuant to section 751(a)(3)(A) of the Act.

Assessment Rates

Upon issuance of the final results of this review, Commerce will determine, and CBP shall assess, ADs on all appropriate entries of subject merchandise covered by this review. Commerce intends to issue assessment instructions to CBP for the companies still under review, no earlier than 35 days after the date of publication of the final results of this review in the Federal Register. Commerce intends to issue assessment instructions to CBP for the companies for which it rescinded this review, no earlier than 35 days after the date of publication of this notice in the Federal Register. If a timely summons is filed at the U.S. Court of International Trade, the assessment instructions will direct CBP not to liquidate relevant entries until the time for parties to file a request for a statutory injunction has expired (i.e., within 90 days of publication).

If we do not alter these preliminary results of review, we intend to instruct CBP to liquidate entries of subject merchandise exported by the companies/company groupings that failed to qualify for a separate rate, and any suspended entries of subject merchandise during the POR under the case numbers of companies that claimed no shipments, at the China-wide entity rate. We intend to instruct CBP to liquidate entries of subject merchandise exported by the companies/company groupings for which we rescinded the review, at the cash deposit rate required at the time of entry.

Cash Deposit Requirements

The following cash deposit requirements will be in effect for all shipments of subject merchandise entered, or withdrawn from warehouse, for consumption on, or after, the date of publication of the notice of the final results of this administrative review in the Federal Register, as provided for by section 751(a)(2)(C) of the Act: (1) for any previously investigated or reviewed China or non-China exporter that has a separate rate, the cash deposit rate will continue to be the exporter's existing cash deposit rate; (2) for all China exporters of subject merchandise that do not have a separate rate, including those exporters who failed to establish their separate rate eligibility in this proceeding, the cash deposit rate will be equal to the dumping margin assigned to the China-wide entity, which is 216.01 percent; and (3) for all non-China exporters of subject merchandise that do not have a separate rate, the cash deposit rate will be equal to the dumping margin applicable to the China exporter(s) that supplied that non-China exporter. These deposit requirements, when imposed, shall remain in effect until further notice.

Notification to Importers

This notice also serves as a preliminary reminder to importers of their responsibility under 19 CFR 351.402(f)(2) to file a certificate regarding the reimbursement of antidumping and/or countervailing duties prior to liquidation of the relevant entries during the POR. Failure to comply with this requirement could result in Commerce's presumption that reimbursement of antidumping and/or countervailing duties occurred and the subsequent assessment of double ADs.

Notification to Interested Parties

We are issuing and publishing these preliminary results of review in accordance with sections 751(a)(1) and 777(i)(1) of the Act, and 19 CFR 351.213 and 351.221(b)(4).

Dated: October 3, 2022.
Lisa W. Wang,
Assistant Secretary for Enforcement and Compliance.

Appendix

Companies/Company Groupings for Which the Administrative Review Is Being Rescinded

1. Dongguan Chengcheng Group Co., Ltd.

2. Golden Well International (HK), Ltd./Producer: Zhangzhou XYM Furniture Product Co., Ltd.

3. Guangzhou Maria Yee Furnishings Ltd., Pyla HK Ltd., Maria Yee, Inc.

4. Jiangsu Xiangsheng Bedtime Furniture Co., Ltd.

5. Jiangsu Yuexing Furniture Group Co., Ltd.

6. Perfect Line Furniture Co., Ltd.

7. PuTian JingGong Furniture Co., Ltd.

8. Shenzhen Jiafa High Grade Furniture Co., Ltd., Golden Lion International Trading Ltd.

9. Shenzhen New Fudu Furniture Co., Ltd.

10. Shenzhen Wonderful Furniture Co., Ltd.

11. Tradewinds Furniture Ltd. (successor-in-interest to Nanhai Jiantai Woodwork Co.), Fortune Glory Industrial Ltd. (H.K. Ltd.)

12. Wuxi Yushea Furniture Co., Ltd.

13. Zhangjiagang Daye Hotel Furniture Co. Ltd.

14. Zhejiang Tianyi Scientific & Educational Equipment Co., Ltd.

15. Zhongshan Fookyik Furniture Co., Ltd.

16. Zhongshan Golden King Furniture Industrial Co., Ltd.

17. Zhoushan For-Strong Wood Co., Ltd.

[FR Doc. 2022-22006 Filed 10-7-22; 8:45 am]

BILLING CODE 3510-DS-P